ENVIRONMENTAL PROTECTION AGENCY

[FRL OP-OFA-147]

Environmental Impact Statements; Notice of Availability

Responsible Agency: Office of Federal Activities, General Information 202-564-5632 or https://www.epa.gov/nepa.

Weekly receipt of Environmental Impact Statements (EIS)

Filed September 30, 2024 10 a.m. EST Through October 7, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240181, Final, UDOT, UT, I-15 Farmington to Salt Lake City, Contact: Brandon Weston 801-965-4603.

Under 23 U.S.C. 139(n)(2), UDOT has issued a single document that consists of a final environmental impact statement and record of decision. Therefore, the 30-day wait/review period under NEPA does not apply to this action.

EIS No. 20240182, Final, BLM, NM, Organ Mountains-Desert Peaks National Monument Final Environmental Impact Statement and Proposed Resource Management Plan, Review Period Ends: 11/12/2024, Contact: Mr. Patrick Rich 405-579-7154.

EIS No. 20240183, Final, BLM, OR, Cascade-Siskiyou National Monument Proposed Resource Management Plan/Final Environmental Impact Statement, Review Period Ends: 11/12/2024, Contact: Nikki Haskett 202-740-0835.

EIS No. 20240184, Draft, USFWS, CA, General Conservation Plan for the Desert Tortoise in California, Comment Period Ends: 12/10/2024, Contact: Peter Sanzenbacher 442-222-0165.

Amended Notice:

EIS No. 20240140, Draft, USAF, AZ, Regional Special Use Airspace Optimization to Support Air Force Missions in Arizona, Comment Period Ends: 11/12/2024, Contact: Grace Keesling 210-925-4534.

Revision to FR Notice Published 08/09/2024; Extending the Comment Period from 10/09/2024 to 11/12/2024.

EIS No. 20240151, Draft, USACE, OR, Lower Columbia River Channel Maintenance Plan, Draft Dredged Material Management Plan and Environmental Impact Statement, Comment Period Ends: 11/06/2024, Contact: Amy Gibbons 503-808-4708.

Revision to FR Notice Published 08/23/2024; Extending the Comment Period from 10/07/2024 to 11/06/2024.

Dated: October 7, 2024.
Timothy Witman,
Acting Director, NEPA Compliance Division Office of Federal Activities.

[FR Doc. 2024-23581 Filed 10-10-24; 8:45 am]

BILLING CODE 6560-50-P